DEPARTMENT OF HOMELAND SECURITY

Coast Guard

[CGD05-06-011]

Waterway Suitability Assessment for Expansion of Dominion Cove Point Liquefied Natural Gas Facility, Calvert County, Maryland

AGENCY: Coast Guard, DHS.

ACTION: Notice, request for comment.

SUMMARY: On August 8, 2005, the Federal Energy Regulatory Commission (FERC) requested Dominion Cove Point Liquefied Natural Gas (LNG) Limited Partnership to prepare a Waterway Suitability Assessment (WSA) for the proposed Cove Point LNG Expansion Project to be submitted to the United States Coast Guard in accordance with the Navigation and Vessel Inspection Circular (NVIC) 05-05. The purpose of the WSA is to identify credible security threats and safety hazards associated with increased LNG marine transportation in the Chesapeake Bay and identify appropriate risk management measures. The Coast Guard Captain of the Port, Baltimore, and the Captain of the Port, Hampton Roads, received the WSA from Dominion Cove Point on January 17, 2006. The conclusions of the WSA are included in this notice. The Coast Guard solicits public comments on these conclusions to consider when preparing recommendations to FERC for inclusion in their final Environmental Impact Statement (EIS) regarding the suitability of the Chesapeake Bay for increased LNG traffic.

DATES: Comments and related material must reach U.S. Coast Guard Sector Baltimore on or before March 16, 2006.

ADDRESSES: You may submit comments identified by Coast Guard docket number CGD05-06-011 to U.S. Coast Guard Sector Baltimore. To avoid duplication, please use only one of the following methods:

(1) Mail: Commander, U.S. Coast Guard Sector Baltimore, 2401 Hawkins Point Road, Baltimore, MD 21226-1791, Attn: Cove Point WSA.

(3) Fax: 410-576-2553.

(4) Hand delivery: Room 216 of Building 70 on the Coast Guard Yard Curtis Bay, 2401 Hawkins Point Road, Baltimore, MD, between 9 a.m. and 3 p.m., Monday through Friday, except Federal holidays. The telephone number is 410-576-2619.

(5) Electronic mail: joseph.s.dufresne@uscg.mil.

FOR FURTHER INFORMATION CONTACT: If you have questions on this notice, or if you have questions on viewing or submitting material to the docket, call LCDR Joe DuFresne, Coast Guard Sector Baltimore, Waterways Management Division, at telephone 410-576-2619.

SUPPLEMENTARY INFORMATION:

Request for Comments

If you submit a comment, please include your name and address, identify the docket number for this notice (CGD05-06-011) and give the reason for each comment. You may submit your comments by electronic means, mail, fax, or delivery to Coast Guard Sector Baltimore at the address under ADDRESSES; but please submit your comments by only one means. If you submit comments by mail or delivery, submit them in an unbound format, no larger than 8½ by 11 inches, suitable for copying and electronic filing. If you submit comments by mail and would like to know that they reached the address listed under ADDRESSES, please enclose a stamped, self-addressed postcard or envelope. We will consider all comments received during the comment period.

Background and Purpose

U.S. Coast Guard NVIC 05-05, “Guidance on Assessing the Suitability of a Waterway for Liquefied Natural Gas Marine Traffic”, published on June 14, 2005, provides guidance to an applicant seeking a permit to build and operate a shore-side LNG terminal to ensure that full consideration is given to safety and security of the port, the facility, and the vessels transporting the LNG. The guidance also assists the Coast Guard to obtain all information needed to assess the proposed LNG marine operations and fulfill its commitment to FERC to provide input to their EIS and to allow the Coast Guard to comply with the National Environmental Policy Act (NEPA). While NVIC 05-05 is primarily focused towards new LNG facilities, the guidance it contains may also be applied to existing facilities seeking to change their operations. Using the guidance in NVIC 05-05, on August 8, 2005, FERC requested Dominion Cove Point LNG to prepare a Waterway Suitability Assessment for the proposed Cove Point Expansion Project and submit it to the Coast Guard.

Dominion Cove Point LNG approached Det Norske Veritas, USA, Inc. (DNV) to perform the WSA on their behalf. The Dominion Cove Point WSA prepared by DNV applies the guidance in NVIC 05-05 and the Sandia National Laboratories Report SAND2004-6258, “Guidance on Risk Analysis and Safety Implications of a Large Liquefied Natural Gas Spill Over Water”, to assess risks and develop risk management strategies.

The Dominion Cove Point WSA contains the following sections: Port Characterization, Facility and Route Characterization, Risk Assessment and Risk Management Strategies, and Conclusions and Recommendations. The Port Characterization provides a general discussion regarding the middle and lower Chesapeake Bay, the LNG operation footprint, and an overview identifying the main considerations and elements within the region. The Facility and Route Characterization contains detailed specifics related to LNG vessels entering and exiting the Chesapeake Bay, their transit to and from the Dominion Cove Point facility, and the carrier/facility interface. This section provides information on the facility layout and operation as well as details concerning navigation, population densities, and critical infrastructures along the carrier route.

The Risk Assessment and Risk Management Strategies section applies scenarios listed in NVIC 05-05 and the Sandia Lab report to develop an initial scenario inventory. DNV further refined the scenario inventory by including others developed and obtained during the course of WSA research and various hazard identification sessions. In addition, DNV analyzed where an LNG carrier could physically maneuver in the Chesapeake Bay versus its routine track, withdrew current safeguards such that an attack or hijacking would be successful, and assessed the overall risk values for select scenarios.

To assess the scenarios, DNV applied established industry risk assessment methodologies and Risk Based Decision-Making techniques. Since the facility is currently in operation, DNV considered existing safeguards documented in the Baltimore Area Maritime Security Plans, other Coast Guard safety and security assessments, Dominion's facility security assessments, and LNG Maritime Security Workshop findings. The analysis results highlighted potential safety and security risks, determined overall risk values, and identified risk management strategies.

The Resource Needs for Safety, Security and Response section identifies public and private resources along the length of the Chesapeake Bay LNG route that may be used to prevent and/or mitigate an accidental or intentional LNG carrier casualty.

Due to the sensitive nature of the information contained in the WSA, it is classified as Sensitive Security Information (SSI) and is controlled under 49 CFR part 1520. The WSA itself is, therefore, not able to be released in its entirety to the public without a “need to know” as defined in 49 CFR 1520.5. However, the general conclusions of the WSA are presented here for your information.

Based on the research, analysis, and findings in the Cove Point WSA, DNV concluded that additional LNG vessel traffic related with the Dominion Cove Point expansion project does not pose an undue hazard to the Chesapeake Bay or to the facility/vessel interface. The assessment indicates that currently employed risk management strategies at required enforcement levels for each MARSEC level offer the necessary protection to identified safety and security risks for increased LNG tanker traffic in the Chesapeake Bay and that no additional safeguards would be necessary to manage the risk to an acceptable level.

The Coast Guard will take into consideration the results of the Cove Point WSA and public comments received on its conclusions when preparing our input to FERC for inclusion in the Final EIS. The results will also be considered as the Coast Guard prepares a Letter of Recommendation which will identify what actions and resources are necessary to make the Chesapeake Bay suitable for increased LNG traffic to Cove Point.

Dated: January 26, 2006.
Curtis A. Springer,
Captain, U.S. Coast Guard, Commander, U.S. Coast Guard Sector Baltimore, Baltimore, Maryland.

[FR Doc. E6-2055 Filed 2-13-06; 8:45 am]

BILLING CODE 4910-15-P